DEPARTMENT OF ENERGY

Office of Science

Fusion Energy Sciences Advisory Committee

AGENCY: Department of Energy.

ACTION: Notice of open meeting.

SUMMARY: This notice announces a meeting of the Fusion Energy Sciences Advisory Committee. The Federal Advisory Committee Act (Pub. L. 92-463, 86 Stat. 770) requires that public notice of these meetings be announced in the Federal Register.

DATES: Wednesday, March 5, 2003, 9 a.m. to 6 p.m.; Thursday, March 6, 2003, 9 a.m. to 12 noon.

ADDRESSES: The Hilton Gaithersburg, 620 Perry Parkway, Gaithersburg, Maryland 20877, USA.

FOR FURTHER INFORMATION CONTACT: Albert L. Opdenaker, Office of Fusion Energy Sciences; U.S. Department of Energy; 1000 Independence Avenue, SW.; Washington, DC 20585-1290; Telephone: 301-903-4927.

SUPPLEMENTARY INFORMATION: Purpose of the Meeting: The purpose of this meeting is to complete the charge before the Committee to consider what new and upgraded facilities will be necessary to position the Fusion Energy Sciences program in the forefront of scientific discovery during the next 20 years.

Tentative Agenda

Wednesday, March 5, 2003

• Office of Science Perspective

• Office of Fusion Energy Sciences Perspective

• Report from the Development Plan Panel

• Public Comments

Thursday, March 6, 2003

• Discussion of Areas of U.S. interest for Participation in ITER

• Final Report from the Non-Electric Applications Panel

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room; IE-190; Forrestal Building; 1000 Independence Avenue, SW.; Washington, DC, between 9 a.m. and 4 p.m., Monday through Friday, except Federal holidays.

Issued at Washington, DC, on February 11, 2003.
Rachel M. Samuel,
Deputy Advisory Committee Management Officer.

[FR Doc. 03-3704 Filed 2-13-03; 8:45 am]

BILLING CODE 6450-01-P